DEPARTMENT OF JUSTICE

Federal Bureau of Investigation, Justice.

Meeting of the Compact Council for the National Crime Prevention and Privacy Compact

AGENCY: Federal Bureau of Investigation, Justice.

ACTION: Meeting notice.

SUMMARY: The purpose of this notice is to announce a meeting of the Compact Council created by the National Crime Prevention and Privacy Compact Act of 1998 (Compact). Thus far, the federal government and eight states are parties to the Compact which governs the exchange of criminal history records for licensing, employment, and similar purposes. The Compact also provides a legal framework for the establishment of a cooperative Federal-state system to exchange such records.

The meeting will be a strategic planning session to devise short and long term goals and to define the mission statement of the Compact Council.

The meeting will be open to the public on a first-come, first-seated basis. Any member of the public wishing to file a written statement with the Compact Council or wishing to address this session of the Compact Council should notify Ms. Cathy L. Morrison at (304) 625-2736, at least 24 hours prior to the start of the session. The notification should contain the requestor's name and corporate designation, consumer affiliation, or government designation, along with a short statement describing the topic to be addressed, and the time needed for the presentation. Requestors will ordinarily be allowed not more than 15 minutes to present a topic.

DATES AND TIMES: The Compact Council will meet in open session from 9 a.m. until 5 p.m. on February 13, 2001.

ADDRESSES: The meeting will take place at the Sheraton Uptown Albuquerque, 2600 Louisiana Boulevard, N.E., Albuquerque, New Mexico, telephone (505) 881-0000.

FOR FURTHER INFORMATION CONTACT: Inquiries may be addressed to Ms. Cathy L. Morrison, Management Analyst, Programs Development Section, CJIS Division, FBI, 1000 Custer Hollow Road, Clarksburg, West Virginia 26306-0147, telephone (304) 625-2736, facsimile (304) 625-5388.

Dated: January 4, 2001.
Thomas E. Bush, III,
Section Chief, Programs Development Section, Federal Bureau of Investigation.

[FR Doc. 01-1071 Filed 1-11-01; 8:45 am]

BILLING CODE 4410-02-M